DEPARTMENT OF COMMERCE

International Trade Administration

[C-570-917]

Laminated Woven Sacks From the People's Republic of China: Rescission of Countervailing Duty Administrative Review

AGENCY: Import Administration, International Trade Administration, Department of Commerce.

SUMMARY: The Department of Commerce (the Department) is rescinding the administrative review of the countervailing duty order on laminated woven sacks (sacks) from the People's Republic of China (PRC) for the period January 1, 2009, to December 31, 2009, with respect to Zibo Aifudi Plastic Packaging Co., Ltd. (Zibo Aifudi). Since Zibo Aifudi was the only party that requested a review and is the only producer/exporter subject to review, this notice also serves to rescind the entire administrative review. This rescission is based on Zibo Aifudi's timely withdrawal of its request for review.

DATES: Effective Date: December 30, 2010.

FOR FURTHER INFORMATION CONTACT: Justin M. Neuman, AD/CVD Operations, Office 6, Import Administration, International Trade Administration, U.S. Department of Commerce, 14th Street and Constitution Avenue, NW., Washington, DC 20230; telephone: (202) 482-0486.

SUPPLEMENTARY INFORMATION:

Background

On August 7, 2008, the Department published in the Federal Register the countervailing duty order on sacks from the PRC. See Laminated Woven Sacks From the People's Republic of China: Countervailing Duty Order, 73 FR 45955 (August 7, 2008). On August 2, 2010, the Department published a notice announcing the opportunity to request an administrative review of the countervailing duty order on sacks from the PRC for the period January 1, 2009, through December 31, 2009. See Antidumping or Countervailing Duty Order, Finding, or Suspended Investigation; Opportunity To Request Administrative Review, 75 FR 45094 (August 2, 2010). On August 26, 2010, in accordance with 19 CFR 351.213(b), the Department received a timely request from Zibo Aifudi, a Chinese producer and exporter to the United States of sacks, to conduct an administrative review of the company under the countervailing duty order on sacks from the PRC for the period January 1, 2009, through December 31, 2009.

In accordance with section 751(a)(1) of the Tariff Act of 1930 (the Act) and 19 CFR 351.221(c)(1)(i), on September 29, 2010, the Department published a notice initiating an administrative review of Zibo Aifudi under the countervailing duty order. See Initiation of Antidumping and Countervailing Duty Administrative Reviews and Requests for Revocation in Part, 75 FR 60076 (September 29, 2010). On November 3, 2010, Zibo Aifudi withdrew its request for review.

Rescission of Administrative Review

Pursuant to 19 CFR 351.213(d)(1), the Secretary will rescind an administrative review, in whole or in part, if the party that requested the review withdraws the request within 90 days of the date of publication of the notice of initiation of the requested review. On November 3, 2010, Zibo Aifudi withdrew its request for review within the 90-day period, and no other party requested a review. Therefore, pursuant to 19 CFR 351.213(d)(1), the Department is rescinding this administrative review.

Assessment

The Department will instruct U.S. Customs and Border Protection (CBP) to assess countervailing duties at the cash deposit rate in effect on the date of entry, for entries during the period January 1, 2009, through December 31, 2009. The Department intends to issue appropriate assessment instructions to CBP 15 days after publication of this notice of rescission of administrative review.

Notification Regarding Administrative Protective Order

This notice serves as a final reminder to parties subject to administrative protective orders (APO) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Act and 19 CFR 351.213(d)(4).

Dated: December 22, 2010.
Christian Marsh,
Deputy Assistant Secretary for Antidumping and Countervailing Duty Operations.

[FR Doc. 2010-32938 Filed 12-29-10; 8:45 am]

BILLING CODE 3510-DS-P